DEPARTMENT OF ENERGY

Federal Energy Regulatory Commission

[Project No. 7591-001]

James D. Sysko; Notice of Proposed Termination of Exemption by Implied Surrender and Soliciting Comments, Motions To Intervene, and Protests

Take notice that the following hydroelectric proceeding has been initiated by the Commission and is available for public inspection:

a. Type of Proceeding: Proposed Termination of Exemption by Implied Surrender.

b. Project No: 7591-001.

c. Date Initiated: October 21, 2025.

d. Applicant: James D. Sysko.

e. Name of Project: Wight Brook Hydroelectric Project.

f. Location: The project is located in the town of Newry, Oxford County, Maine. The project does not occupy federal lands.

g. Filed Pursuant to: 18 CFR 4.106.

h. Applicant Contact: James D. Sysko, 524 Jims Drive, Newry, Maine 04261, (207) 824-3244.

i. FERC Contact: Maryam Akhavan, (202) 502-6110, maryam.akhavan@ferc.gov.

j. Resource Agency Comments: Federal, state, local and Tribal agencies are invited to file comments on the described proceeding. If an agency does not file comments within the time specified for filing comments, it will be presumed to have no comments.

k. Deadline for filing comments, motions to intervene, and protests: December 5, 2025 5:00 p.m. Eastern Time.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include the docket number P-7591-001. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Project Facilities: The project works originally included: a 1.7-foot-high, 30-foot-long concrete diversion dam, an inlet structure, a 1,700-foot-long, 10-inch-diameter penstock, a powerhouse containing a single 30-kW turbine generator, a 1,400-foot-long, 7.2-kV underground transmission line, and appurtenant facilities. The dam is located upstream of a recreation area on Wight Brook and the powerhouse is located on a private property not owned by the exemptee.

m. Description of Proceeding: The exemptee is in violation of Standard Article 1 of its exemption, which was granted on December 23, 1983 (25 FERC § 62,401). The Commission's regulation 18 CFR 4.106 provides, among other things, that the Commission reserves the right to revoke an exemption if any term or condition of the exemption is violated. The project has not operated since 2019.

Between 2014 and 2019, the property owner of the land where the powerhouse is located dissolved the easement that allowed the exemptee access to the project works. The project has been partially decommissioned, a notch has been cut out of the dam, the penstock partially removed, the powerhouse has been demolished and disconnected from the grid. On May 8, 2024 and September 26, 2024, Commission staff issued letters requesting updated contact information for the new owner of the easement and an application for the project's surrender as the project had been rendered permanently inoperable. The exemptee did not respond to the Commission's correspondence.

n. Location of the Order Issuing Exemption: The order may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: October 21, 2025.
Debbie-Anne A. Reese,
Secretary.

[FR Doc. 2025-21335 Filed 11-26-25; 8:45 am]

BILLING CODE 6717-01-P